DEPARTMENT OF THE TREASURY

Internal Revenue Service

Open Meeting of the Area 5 Taxpayer Advocacy Panel (Including the States of Iowa, Kansas, Minnesota, Missouri, Nebraska, North Dakota, Oklahoma, South Dakota, and Texas)

AGENCY: Internal Revenue Service (IRS) Treasury.

ACTION: Notice.

SUMMARY: An open meeting of the Area 5 Taxpayer Advocacy Panel will be conducted (via teleconference). The Taxpayer Advocacy Panel is soliciting public comment, ideas, and suggestions on improving customer service at the Internal Revenue Service.

DATES: The meeting will be held Monday, September 13, 2004, at 3 p.m., Central time.

FOR FURTHER INFORMATION CONTACT: Audrey Jenkins at 1-888-912-1227, or (718) 488-2085.

SUPPLEMENTARY INFORMATION: Notice is hereby given pursuant to Section 10(a)(2) of the Federal Advisory Committee Act, 5 U.S.C. App. (1988) that a meeting of the Area 5 Taxpayer Advocacy Panel will be held Monday, September 13, 2004, at 3 p.m., Central time via a telephone conference call. You can submit written comments to the panel by faxing them to (718) 488-2062, or by mailing them to Taxpayer Advocacy Panel, 10 Metro Tech Center, 625 West Fulton Street, Brooklyn, NY 11201, or you can contact us at www.improveirs.org. This meeting not required to be open to the public, but because we are always interested in community input, we will accept public comments. Please contact Audrey Jenkins at 1-888-912-1227 or (718) 488-2085 for dial-in information.

The agenda will include the following: Various IRS issues.

Dated: August 17, 2004.
Bernard Coston,
Director, Taxpayer Advocacy Panel.

[FR Doc. 04-18792 Filed 8-16-04; 8:45 am]

BILLING CODE 4830-01-M